DEPARTMENT OF COMMERCE

Foreign-Trade Zones Board

[Docket 7-2007]

Foreign-Trade Zone 134—Chattanooga, TN; Application for Expansion

An application has been submitted to the Foreign-Trade Zones (FTZ) Board (the Board) by the Chattanooga Chamber Foundation (CCF), grantee of FTZ 134, requesting authority to expand its zone in the Chattanooga area within and adjacent to the Chattanooga Customs and Border Protection port of entry. The application was submitted pursuant to the provisions of the Foreign-Trade Zones Act, as amended (19 U.S.C. 81a-81u), and the regulations of the Board (15 CFR Part 400). It was formally filed on February 28, 2007.

FTZ 134 was approved on January 30, 1987 (Board Order 339, 52 FR 4370, 2/11/87). On February 22, 2000, the grant of authority was reissued to CCF (Board Order 1075, 65 FR 11548, 3/3/00). The general-purpose zone currently consists of the following sites: Site 1 (3 acres)—public warehouse facility located at 3318 Amnicola Highway, Chattanooga; and, Site 2 (230 acres)—located at Amnicola Highway and Stuart Street on the Tennessee River at river mile 467, Chattanooga.

The applicant is now requesting authority to expand the general-purpose zone to include ten additional sites (5,277.37 acres) in the Chattanooga are: Proposed Site 3 (3,133 acres)—Enterprise South Industrial Park, located approximately one mile from Interstate 75 bounded by Highway 58 to the north, South Hickory Valley Road to the west and Norfolk Southern Railway to the south, Chattanooga (Hamilton County); Proposed Site 4 (13.7 acres)—JIT Warehousing and Distribution Complex, 530 Manufacturers Road, Chattanooga; Proposed Site 5 (51.4 acres, 5 parcels)—within 313-acre Bonny Oaks Industrial and Office Park, located at Bonny Oaks Drive and Jersey Pike off Highway 153, Chattanooga; Proposed Site 6 (16 acres)—Kenco-Polymer Warehouse Complex, 2210 Polymer Drive, Chattanooga; Proposed Site 7 (46.62 acres, 3 parcels)—within the 250-acre North Industrial Park, located adjacent to US Highway 70 and Sparta Highway, McMinnville (Warren County); Proposed Site 8 (1,279.87 acres, 8 parcels)—within the 2,500-acre Mountain View Industrial Park, located at Mountain View Industrial Drive off of Tennessee State Highway 55, Morrison (Warren County); Proposed Site 9 (522.83 acres, 5 parcels)—Nickajack Port and Industrial Park, located adjacent to State Route 156 at mile 424.0 L on Guntersville Reservoir, New Hope (Marion County); Proposed Site 10 (121.15 acres)—Hiwassee River Industrial Park, 1590 Lauderdale Memorial Highway NW, Charleston (Bradley County); Proposed Site 11 (87 acres, 3 parcels)—within the 330-acre Cleveland/Bradley Industrial Park, 620 Industrial Drive, Cleveland (Bradley County); and, Proposed Site 12 (5.8 acres)—within the 50-acre Pike Hill Industrial Center, 70 Easy Street, McMinnville. The sites will provide public warehousing and distribution services to area businesses. No specific manufacturing authority is being requested at this time. Such requests would be made to the Board on a case-by-case basis.

In accordance with the Board's regulations, a member of the FTZ staff has been designated examiner to investigate the application and report to the Board.

Public comment is invited from interested parties. Submissions (original and 3 copies) shall be addressed to the Board's Executive Secretary at the address below. The closing period for their receipt is May 11, 2007. Rebuttal comments in response to material submitted during the foregoing period may be submitted during the subsequent 15-day period to May 29, 2007.

A copy of the application and accompanying exhibits will be available for public inspection at each of the following locations: Chattanooga Chamber Foundation, 811 Broad Street, Chattanooga, TN 37402; and, Office of the Executive Secretary, Foreign-Trade Zones Board, Room 2814B, U.S. Department of Commerce, 1401 Constitution Avenue, NW., Washington, DC 20230.

For further information, contact Camille Evans at Camille_Evans@ita.doc.gov or at (202) 482-2350.

Dated: February 28, 2007.
Andrew McGilvray,
Executive Secretary.

[FR Doc. 07-1133 Filed 3-9-07; 8:45 am]

BILLING CODE 3510-DS-M